DEPARTMENT OF COMMERCE

Foreign-Trade Zones Board

[B-007-2017]

Foreign-Trade Zone (FTZ) 29—Shelbyville, Kentucky, Notification of Proposed Production Activity, Amcor Flexibles L.L.C., (Flexible Packaging Production, Warehousing, and Distribution), Shelbyville, Kentucky

The Louisville and Jefferson County Riverport Authority, grantee of FTZ 29, submitted a notification of proposed production activity to the FTZ Board on behalf of Amcor Flexibles L.L.C. (Amcor), located in Shelbyville, Kentucky. The notification conforming to the requirements of the regulations of the FTZ Board (15 CFR 400.22) was received on January 11, 2017.

A separate application for subzone designation at the Amcor facility was submitted and will be processed under Section 400.31 of the Board's regulations. The facility will be used to produce, warehouse, and distribute flexible packaging used in pharma, food, home, and personal care products. Pursuant to 15 CFR 400.14(b), FTZ activity would be limited to the specific foreign-status materials and components and specific finished products described in the submitted notification (as described below) and subsequently authorized by the FTZ Board.

Production under FTZ procedures could exempt Amcor from customs duty payments on the foreign-status components used in export production. On its domestic sales, Amcor would be able to choose the duty rates during customs entry procedures that apply to: Printed and non-printed, non-laminated aluminum foil packaging (duty rate 3.0%); printed, laminated aluminum foil packaging (duty rate 3.7%); non-printed aluminum foil laminated packaging (duty rate 0.0%); aluminum/plastic packaging (duty rate 4.2%); aluminum/plastic pouches (duty rate 4.2%); aluminum/plastic tear strip (duty rate 4.2%); and, aluminum foil (not laminated) (duty rate 3.0%) for the foreign-status inputs noted below. Customs duties also could possibly be deferred or reduced on foreign-status production equipment.

The components and materials sourced from abroad include polyvinyl chloride film, nylon film, aluminum foil, aluminum/plastic tear strip, and aluminum foil (not laminated) (duty rate ranges from 3.0% to 5.8%).

Public comment is invited from interested parties. Submissions shall be addressed to the Board's Executive Secretary at the address below. The closing period for their receipt is March 7, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Juanita H. Chen at Juanita.Chen@trade.gov or (202) 482-1378.

Dated: January 17, 2017.
Elizabeth Whiteman,
Acting Executive Secretary.

[FR Doc. 2017-01708 Filed 1-25-17; 8:45 am]

BILLING CODE 3510-DS-P